DEPARTMENT OF JUSTICE

Federal Bureau of Investigation

Agency Information Collection Activities: Proposed Collection: Comment Request

ACTION: 60-day notice of information collection under review: extension of a currently approved collection; Application for Employment/Federal Bureau of Investigation.

The Department of Justice (DOJ), Federal Bureau of Investigation, has submitted the following information collection request to the Office of Management and Budget (OMB) for review and approval in accordance with the Paperwork Reduction Act of 1995. The proposed information collection is published to obtain comments from the public and affected agencies. Comments are encouraged for 60 days until [The Federal Register will insert the date 60 days from the date of this notice is published in the Federal Register]. this process is conducted in accordance with 5 CFR 1320.10.

If you have comments or suggestions, especially on the estimated public burden or associated response time, or need a copy of the proposed information collection instrument with instructions or additional information, please contact Mr. Paul F. Garner, Chief of the Bureau Applicant Employment Unit, Federal Bureau of Investigation, Washington, D.C. 20535; 202-324-6770.

Written comments and suggestions from the public and affected agencies concerning the proposed collection of information are encouraged. Your comments should address one or more of the following four points:

(1) Evaluate whether the proposed collection of information is necessary for the proper performance of the functions of the agency/component, including whether the information will have practical utility;

(2) Evaluate the accuracy of the agencies/components estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

Overview of This Information Collection

(1) Type of Information Collection: Extension of a Currently Approved Collection.

(2) Title of the Form/Collection: Application for Employment/Federal Bureau of Investigation.

(3) The agency form number, if any, and the applicable component of the Department of Justice sponsoring the collection. Form Number: FD-140. Applicable Component: Federal Bureau of Investigation, U.S. Department of Justice.

(4) Affected public who will be asked or required to respond, as well as a brief abstract. Primary: Individuals or households. Other: None. Abstract: The FD-140, Application for Employment, is utilized to collect pertinent background information on all applicants for FBI positions. The FD-140 is issued in lieu of Standard Form 86, Questionnaire for National Security Positions, to address suitability and security concerns beyond the scope of the SF-86. Furthermore, the FD-406, Authority to Release Information, is also incorporated into the FD-140 in order for the FBI to obtain necessary records.

(5) An estimate of the total number of respondents and the estimated amount of time for an average person to respond or reply: 50,000 respondents with an average response rate of 10 hours.

(6) An estimate of the total public burden (in hours) associated with the collection: 500,000 annual burden hours.

If additional information is required contact: Mr. Robert B. Briggs, Clearance Officer, United States Department of Justice, Information Management and Security Staff, Justice Management Division, Suite 1600, Patrick Henry Building, 601 D Street, N.W., Washington, DC 20530.

Dated: January 31, 2002.
Robert B. Briggs,
Department Clearance Officer, United States Department of Justice.

[FR Doc. 02-2784 Filed 2-5-02; 8:45 am]

BILLING CODE 4410-02-M